COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete service(s) from the Procurement List that were furnished by nonprofit agencies employing persons who are blind or have other severe disabilities.

DATES: Comments must be received on or before: March 9, 2025.

ADDRESSES: Committee for Purchase From People Who Are Blind or Severely Disabled, 355 E Street SW, Suite 325, Washington, DC 20024.

FOR FURTHER INFORMATION CONTACT: For further information or to submit comments contact: Michael R. Jurkowski, Telephone: (703) 489-1322, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following service(s) are proposed for deletion from the Procurement List:

Service(s)

Service Type: ESD—Tier 1 Call Center Service

Mandatory for: Defense Logistics Agency, DLA Headquarters, Satellite Offices (NoVA & DC area), CONUS & OCONUS, Philadelphia, PA

Authorized Source of Supply: Peckham Vocational Industries, Inc., Lansing, MI

Contracting Activity: DEFENSE LOGISTICS AGENCY, DCSO PHILADELPHIA

Service Type: Janitorial/Custodial

Mandatory for: Bureau of Land Management: Las Vegas District Office, Las Vegas, NV

Authorized Source of Supply: Opportunity Village, Las Vegas, NV

Contracting Activity: OFFICE OF POLICY, MANAGEMENT, AND BUDGET, NBC ACQUISITION SERVICES DIVISION

Michael R. Jurkowski,
Director, Business Operations.

[FR Doc. 2025-02351 Filed 2-6-25; 8:45 am]

BILLING CODE 6353-01-P